CIVIL RIGHTS COMMISSION

Sunshine Act Meeting

AGENCY: U.S. Commission on Civil Rights.

DATE AND TIME: Friday, April 13, 2001, 9:30 a.m.

PLACE: U.S. Commission on Civil Rights, 624 Ninth Street, NW., Room 540, Washington, DC 20425.

STATUS:

Agenda

I. Approved of Agenda

II. Approval of Minutes of March 9, 2001 Meeting

III. Announcements

IV. Staff Director's Report

V. Alleged Voting Irregularities in Florida: Discussion of Outline of The Final Document

VI. State Advisory Committee Report

• Reconciliation at a Crossroads: The Implications of Rice v. Cayetano on Programs for Native Hawaiians (Hawaii)

• Civil Rights Issues Facing Arab Americans in Michigan (Michigan)

VII. Future Agenda Items

11 a.m. Briefing on Equal Educational Opportunity: Vouchers/Choice, Charters, High Stakes Testing and Bilingual Education

CONTACT PERSON FOR FURTHER INFORMATION: David Aronson, Press and Communications (202) 376-8312.

Edward A. Hailes, Jr.,
General Counsel.

[FR Doc. 01-8694 Filed 4-4-01; 2:43 pm]

BILLING CODE 6335-01-M